DEPARTMENT OF THE INTERIOR

National Park Service

National Register of Historic Places; Notification of Pending Nominations

Nominations for the following properties being considered for listing in the National Register were received by the National Park Service before May 4, 2002. Pursuant to section 60.13 of 36 CFR Part 60 written comments concerning the significance of these properties under the National Register criteria for evaluation may be forwarded by United States Postal Service, to the National Register Historic Places, National Park Service, 1849 C St., NW., NC400, Washington, DC 20240; by all other carriers, National Register of Historic Places, National Park Service, 800 N. Capitol St., NW., Suite 400, Washington DC 20002; or by fax, 202-343-1836. Written or faxed comments should be submitted by May 31, 2002.

Carol D. Shull,
Keeper of the National Register of Historic Places.

Alaska

Prince of Wales-Outer K.Borough-Census Area, Chief Son-I-Hat's Whale House and Totems Historic District, Totem Park Trail, Kasaan, 02000627

Colorado

Pueblo County

Minnequa Steel Works Office Building and Dispensary, Colorado Fuel and Iron Company, 215 and 225 Canal St., Pueblo, 02000628

Georgia

Wilkes County

Gartrell Family House, 854 Boyd Rd., Tignall, 02000629

Iowa

Johnson County

Walker Park and Memorial Building, 6078 Otter Creek Rd. SE, River Junction, 02000630

Massachusetts

Bristol County

New Bedford Gas and Edison Light Complex, 180 MacAuthur Dr., New Bedford, 02000633

Essex County

Flint Public Library, 2 N. Main St., Middleton, 02000631

Hampden County

Mechanic Street Cemetery, Mechanic St., Westfield, 02000632

Middlesex County

East Holliston Historic District, Washington, Baker, Curve, Woodland St., Quail Run, Holliston, 02000636

Howe School, 390 Boston Rd., Billerica, 02000634

Worcester County

Hopedale Village Historic District, Roughly bounded by Milford Town Line, Malquin Dr., Mendon Town Line and Upton Town Line, Hopedale, 02000635

Minnesota

Crow Wing County

Ironton City Hall, 309 3rd St., Ironton, 02000637

New Hampshire

Cheshire County

East Jaffrey Historic District, Roughly along NH 124 through Jaffrey, Jaffrey, 02000642

Grafton County

Spring Hill Farm, 263 Meriden Rd., Lebanon, 02000639

Merrimack County

Hall, Charles S., House, 1740 Dover Rd., Epsom, 02000640

Page Belting Company Mills, 26 Commercial St., Concord, 02000641

Strafford County

Plummer Homestead, 1273 White Mountain Hwy., Milton, 02000638

New York

Westchester County

Wickers Creek Site, Address Restricted, Dobbs Ferry, 02000652

North Carolina

Davidson County

Spach, Adam, Rock House Site, Address Restricted, Winston-Salem, 02000643

Texas

Smith County

Blackstone Building, (Tyler, Texas MPS) 315 N. Building, Tyler, 02000645

Crescent Laundry, (Tyler, Texas MPS) 312-320 E. Ferguson St., Tyler, 02000644

Donnybrook Duplex Residential Historic District, (Tyler, Texas MPS) Roughly bounded by E. 6th St., Donnybrook Ave., E. 8th St., and S. Wall, Tyler, 02000649

East Ferguson Residential Historic District, (Tyler, Texas MPS) 423-513 E. Ferguson St., Tyler, 02000647

Elks Club Building, (Tyler, Texas MPS) 202 S. Broadway, Tyler, 02000648

Jenkins—Harvey Super Service Station and Garage, (Tyler, Texas MPS) 124 S. College, Tyler, 02000646

Virginia

Rockingham County

Rife's Mill, Jct. of Silver Lake Rd. and Linhoss Rd., Dayton, 02000651

Wisconsin

Milwaukee County

Whitefish Bay National Guard Armory, 1225 E. Henry Clay St., Whitefish Bay, 02000650

[FR Doc. 02-12272 Filed 5-15-02; 8:45 am]

BILLING CODE 4310-70-P